DEPARTMENT OF THE INTERIOR

Bureau of Land Management

DEPARTMENT OF AGRICULTURE

Forest Service

Environmental Impact Statement for Fruitland Coalbed Methane Gas Development

AGENCY: Bureau of Land Management, USDI, and Forest Service, USDA.

ACTION: Notice of meetings.

SUMMARY: The Forest Service San Juan National Forest and the Bureau of Land Management San Juan Field Office published a notice of intent to prepare an environmental impact statement for the Fruitland Coalbed Methane Gas Development on April 4, 2000, (65 FR 17672). Included in the notice were dates for public meetings to review the notice of intent. This notice changes the public meeting dates from May 16 to June 28, 2000, and from May 17 to June 29, 2000, and extends the comment period for written comments for the notice of intent from June 1 to July 14, 2000. These changes are necessary to accommodate increased public interest.

DATES: The meetings will be held on June 28, 2000, and June 29, 2000; written comments must be received by July 14, 2000.

ADDRESSES: The June 28 meeting will be held at La Plata County Fairgrounds, Exhibit Hall, 2500 Main Street, Durango, Colorado; the June 29 meeting will be held at Bayfield High School, 800 County Road 501, Bayfield, Colorado. Both meetings will be from 5 p.m. to 8 p.m. Written comments should be sent to the San Juan Field Office Manager, Bureau of Land Management, USDI, 15 Burnett Court, Durango, Colorado 81301.

FOR FURTHER INFORMATION CONTACT: Jim Powers (970) 247-4874.

Dated: June 1, 2000.
Calvin N. Joyner,
San Juan Field Office Manager, Colorado, Bureau of Land Management, USDI, and Forest Supervisor, San Juan National Forest, Colorado, Forest Service, USDA.

[FR Doc. 00-14639 Filed 6-8-00; 8:45 am]

BILLING CODE 4310-JB-P